DEPARTMENT OF VETERANS AFFAIRS

[OMB Control No. 2900-0797]

Agency Information Collection Activity: GI Bill® School Feedback Tool

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Comments must be received on or before August 16, 2024.

ADDRESSES: Comments must be submitted through https://www.regulations.gov/.

FOR FURTHER INFORMATION CONTACT:

Program-Specific information: Nancy Kessinger, 202-632-8924, nancy.kessinger@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: GI Bill® School Feedback Tool, No Form.

OMB Control Number: 2900-0797. https://www.reginfo.gov/public/do/PRASearch (Once at this link, you can enter the OMB Control Number to find the historical versions of this Information Collection).

Type of Review: Revision of a currently approved collection.

Abstract: Executive Order 13607, Establishing Principles of Excellence, which is now identified as the GI Bill School Feedback Tool is used for Educational Institutions serving service members, Veterans, spouses, and other family members, requires the establishment of a centralized complaint system for students receiving federal military and Veteran educational benefits. The purpose of the complaint system is to provide a standardized method to submit a complaint against an educational institution alleging fraudulent and unduly aggressive recruiting techniques, misrepresentation, payment of incentive compensation, failure to meet state authorization requirements, or failure to adhere to the Principles of Excellence as outlined in the Executive Order. The VA's Principles of Excellence GI Bill® School Feedback Tool leverages the Salesforce platform to collect and manage complaints. The complainants access the complaint system through the GI Bill website and eBenefits portal. Veterans, family members, or other members of the public are able to open links at the VA website location and enter the requested information. Complainants are offered the opportunity to review the information in their complaint prior to clicking on the submit button. Once a complaint is submitted, the complainant receives an email verifying that the complaint was received.

At this point, the complaint is stored in the complaint system and is available to select VA employees for review. VA reviews the complaint, and on behalf of the complainant, shares the complaint with the institution which is subject of the complaint. VA requests the institution to formally respond to the complaint within 90 days. If an institution fails to respond within 90 days, VA will contact the institution and request a status update.

Once VA receives a response from the institution, VA will forward the response to the complainant. At this point, VA will close the case. Valid complaints received are transmitted to the central repository at FTC Consumer Sentinel. The information in the central repository is the same information provided by the complainant. Authorized law enforcement officials who have been granted access to the FTC Consumer Sentinel database have access to view all complaints. The respondent submits a complaint about an educational institution online through either the GI Bill website or the eBenefit portal. The information gathered can only be obtained from the individual respondents. Valid complaints will be accepted from third parties. The Feedback Tool process for VA's complaint system data elements include:

Institution/Employer: There are over 36,000 educational institutions that are approved for VA education benefits.

Anonymous Complaints: The Feedback Tool Complaint System allows for a user to file anonymous complaints. Based on working group discussions with CFPB and FTC, VA believes that allowing anonymous complaints will garner more ground truth on what is happening with Veterans using their education benefits at different schools.

Required fields: As a result of allowing anonymous complaints, many of the fields will not be required by VA.

Affected Public: Individuals and Households.

Estimated Annual Burden: 305 hours.

Estimated Average Burden Time per Respondent: 15 minutes.

Frequency of Response: On occasion.

Estimated Number of Respondents: 1,222.

Authority: 44 U.S.C. 3501 et seq.

Dorothy Glasgow,
VA PRA Clearance Officer, (Alt.) Office of Enterprise and Integration/Data Governance Analytics, Department of Veterans Affairs.

[FR Doc. 2024-13219 Filed 6-14-24; 8:45 am]

BILLING CODE 8320-01-P